DEPARTMENT OF ENERGY

Federal Energy Regulatory Commission

[Project No. 3156-030]

Miller and Miller, Waterpower LLC; Notice of Application for Transfer of License and Soliciting Comments and Motions To Intervene

April 9, 2010.

On March 19, 2010, Miller and Miller (transferor) and Waterpower, LLC (transferee) filed an application for transfer of license of the Worthville Dam Project No. 3156, located on the Deep River in Randolph County, North Carolina.

Applicants seek Commission approval to transfer the license for the Worthville Dam Project from the transferor to the transferee.

On February 17, 2010, the Commission issued a Notice of Termination of License by Implied Surrender and Soliciting Comments, Protests, and Motions to Intervene for the Worthville Dam Project (P-3156-029). On March 19, 2010, Waterpower, LLC filed a motion to intervene and protest in the termination proceeding.

Applicants' Contact: Mr. Mark K. Seifert, Attorney at Law, 107 Saint Brides Court, Cary, NC; (919) 961-0095.

FERC Contact: Robert Bell, (202) 502-6062.

Deadline for filing comments and motions to intervene: 30 days from the issuance of this notice. Comments and motions to intervene may be filed electronically via the Internet. See 18 CFR 385.2001(a)(1)(iii)(2008) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the eLibrary link of Commission's Web site at http://www.ferc.gov/docs-filing/elibrary.asp. Enter the docket number (P-3156-030) in the docket number field to access the document. For assistance, call toll-free 1-866-208-3372.

Kimberly D. Bose,
Secretary.

[FR Doc. 2010-8704 Filed 4-15-10; 8:45 am]

BILLING CODE 6717-01-P